DEPARTMENT OF ENERGY

Federal Energy Regulatory Commission

[Docket No. OR21-10-000]

Notice of Request for Emergency Relief; Airlines for America; Reno-Tahoe Airport Authority; Alaska Air Group, Inc.; Allegiant Air; American Airlines, Inc.; Delta Air Lines, Inc.; Federal Express Corp.; Frontier Airlines; JetBlue Airways Corp.; National Air Carrier Association; Southwest Airlines Co.; World Fuel Services, Inc.

Take notice that on July 26, 2021, Airlines for America, Reno-Tahoe Airport Authority, Alaska Air Group, Inc., Allegiant Air, American Airlines, Inc., Delta Air Lines, Inc., Federal Express Corporation, Frontier Airlines, JetBlue Airways Corporation, National Air Carrier Association, Southwest Airlines Co., and World Fuel Services, Inc. (collectively, Movants) filed a request for the Commission to exercise its emergency powers pursuant to Section 1(15) of the Interstate Commerce Act (ICA), to allow, or if necessary direct, SFPP, L.P. (SFPP) to temporarily provide priority treatment to jet fuel shipments from origins on SFPP's North Line to Reno, Nevada. Movants submit that emergency action from the Commission is necessary to prevent jet fuel shortages, cancelled flights, and disruption to critical passenger and cargo transportation at Reno-Tahoe International Airport throughout August. Movants request that the Commission direct SFPP to immediately give priority in transportation to jet fuel and provide an additional 20,000 barrels of jet fuel capacity, or 541 barrels per day, above the jet fuel already scheduled for shipment through Monday, September 6, 2021.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or a motion to intervene, as appropriate. Anyone filing a motion to intervene or protest must serve a copy of that document on the Petitioner.

The Commission strongly encourages electronic filing of comments, protests, and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free (886) 208-3676 or TYY, (202) (502-8659).

Comments due: 5:00 p.m. Eastern time on July 27, 2021.

Dated: July 26, 2021.
Kimberly D. Bose,
Secretary.

[FR Doc. 2021-16421 Filed 7-30-21; 8:45 am]

BILLING CODE 6717-01-P